ENVIRONMENTAL PROTECTION AGENCY

[EPA-HQ-OGC-2015-0612; FRL 9933-93-OGC]

Proposed Consent Decree, Clean Air Act Citizen Suit

AGENCY: Environmental Protection Agency (EPA).

ACTION: Notice of proposed settlement agreement; request for public comment.

SUMMARY: In accordance with section 113(g) of the Clean Air Act, as amended (“CAA”), notice is hereby given of a proposed settlement agreement to settle lawsuits filed by Sinclair Wyoming Refining Company and Sinclair Casper Refining Company (“Petitioners”), in the United States Courts of Appeal for the Tenth and District of Columbia Circuits: Sinclair Wyoming Refining Co. et al. v. EPA, No. 14-9594 (10th Cir.) and Sinclair Wyoming Refining Co. et al. v. EPA, No. 14-1209 (D.C. Cir.). On October 24, 2014, Petitioners filed petitions for review challenging EPA's August 29, 2014 denials of Sinclair's requests for extensions of its small refinery temporary exemptions for its refineries in Evansville and Sinclair, Wyoming (collectively, the “Small Refinery Temporary Exemptions”). Under the terms of the proposed settlement agreement, Petitioners may submit a request for an extension of their Small Refinery Temporary Exemptions with respect to Petitioners' 2014 obligations under the Renewable Fuel Standards (“RFS”) Program (the “2014 Exemption Request”). After EPA determines that the 2014 Exemption Request is complete, EPA will issue its decision to Petitioners on the 2014 Extension Request within 90 calendar days.

DATES: Written comments on the proposed settlement agreement must be received by October 14, 2015.

ADDRESSES: Submit your comments, identified by Docket ID number EPA-HQ-OGC-2015-0612, online at www.regulations.gov (EPA's preferred method); by email to oei.docket@epa.gov; mailed to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Susan Stahle, Air and Radiation Law Office (2344A), Office of General Counsel, U.S. Environmental Protection Agency, 1200 Pennsylvania Ave. NW., Washington, DC 20460; telephone: (202) 564-1272; fax number (202) 564-5603; email address: stahle.susan@epa.gov.

SUPPLEMENTARY INFORMATION:

I. Additional Information About the Proposed Consent Decree

The proposed settlement agreement would settle Petitioners' petitions for review in the United States Courts of Appeal for the Tenth and District of Columbia Circuits challenging, under section 307(b)(1) of the Clean Air Act, EPA's August 29, 2014 denials of Petitioners' requests for extensions of their Small Refinery Temporary Exemptions (see Sinclair Wyoming Refining Co. et al. v. EPA, No. 14-9594 (10th Cir.) and Sinclair Wyoming Refining Co. et al. v. EPA, No. 14-1209 (D.C. Cir.) (jointly, the “Pending Cases”). The proposed settlement agreement provides that after Petitioners submit their 2014 Exemption Request, EPA will, within 14 business days after receiving the 2014 Exemption Request, either make a determination that the Request is complete or advise Sinclair in writing of any additional information needed to make the Request complete (an Incompleteness Determination). After EPA determines that the 2014 Exemption Request is complete, EPA will issue its decision to Petitioners on the 2014 Exemption Request within 90 calendar days. Within five business days of EPA issuing its decision on the 2014 Exemption Request, Petitioners will (1) voluntarily dismiss the Pending Cases with prejudice and (2) send a letter to EPA withdrawing its January 13, 2015 “Request for Reconsideration of Petition for Partial Extension of Small Refinery RFS Exemptions” regarding EPA's August 29, 2014 denials of Petitioners' requests for extensions of the Small Refinery Temporary Exemptions.

For a period of 30 days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to the agreement should be withdrawn, the terms of the agreement will be affirmed.

II. Additional Information About Commenting on the Proposed Consent Decree

A. How can I get a copy of the consent decree?

Direct your comments to the official public docket for this action under Docket ID No. EPA-HQ-OGC-2015-0612 which contains a copy of the settlement agreement. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: September 3, 2015.
Gautam Srinivasan,
Acting Associate General Counsel.

[FR Doc. 2015-23061 Filed 9-11-15; 8:45 am]

BILLING CODE 6560-50-P